DEPARTMENT OF THE INTERIOR

Bureau of Indian Affairs

Submission of Information Collection to the Office of Management and Budget (OMB) for Review Under the Paperwork Reduction Act

AGENCY: Bureau of Indian Affairs, Interior.

ACTION: Notice.

SUMMARY: The Bureau of Indian Affairs (BIA) is submitting the information collection titled the Bureau of Indian Affairs Higher Education Grant Program Annual Report Form, OMB Control Number 1076-0106, and the Bureau of Indian Affairs Higher Education Grant Application Form, OMB Control Number 1076-0101 to OMB for approval under the Paperwork Reduction Act. Approval of the Higher Education Annual Grant Report form and the Higher Education Grant Application need to be renewed.

DATES: Submit comments on or before December 23, 2004.

ADDRESSES: You may submit comments on the information collection to the Desk Officer for the Department of the Interior, by facsimile at (202) 395-6566, or via e-mail: OIRA_DOCKET@omb.eop.gov.

Please send a copy of your comments to Director, Office of Indian Education Programs, 1849 C Street, NW., MS-3609-MIB, Washington, DC 20240. The telephone number is (202) 208-6123.

FOR FURTHER INFORMATION CONTACT: You may request further information or obtain copies of the information collection from Garry R. Martin, Branch Chief, Branch of Planning, Office of Indian Education Programs, 1849 C Street, NW., MS-3609-MIB, Washington, DC 20240.

SUPPLEMENTARY INFORMATION: The Bureau of Indian Affairs Higher Education Grant Program Annual Report Form (OMB No. 1076-0106) provides a profile of program financial data from which to derive a national analysis of supplemental funding, unmet financial needs of eligible students and college graduation rates. Authority for the collection of information is contained in Public Law 93-638, The Indian Self-Determination and Education Assistance Act of 1975, as amended. The Bureau of Indian Affairs Higher Education Grant Application (OMB No. 1076-0101) provides for an annual collection of information required to make a determination of an applicant's eligibility for funding. The information must be collected for the applicant to be considered for a benefit. A request for comments on these information collection requests appeared in the Federal Register on April 16, 2004 (69 FR 20636). No comments were received regarding either of the information collection forms.

Request for Comments

The Bureau of Indian Affairs requests you to send your comments on this collection to the locations listed in the ADDRESSES section. Your comments should address:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has valid OMB Control Number.

It is our policy to make all comments available to the public for review at the Bureau of Indian Affairs location listed in the ADDRESSES section, room 3609, during the hours of 8 a.m. to 4 p.m., Monday through Friday, except for legal holidays. If you wish to have your name and/or address withheld, you must state this prominently at the beginning of your comments. We will honor your request according to the requirements of the law. All comments from organizations or representatives will be available for review. We may withhold comments from review for other reasons.

OMB has up to 60 days to make a decision on the submission for renewal, but may make the decision after 30 days. Therefore, to receive the best consideration of your comments, you should submit them as early as possible.

Bureau of Indian Affairs Higher Education Grant Program Annual Report Form

Title: Bureau of Indian Affairs Higher Education Grant Program Annual Report Form.

OMB Approval Number: 1076-0106.

Type of Review: Renewal.

Brief Description of Collection: Respondents who receive a grant are required to submit an annual report.

Respondents: Tribal higher education program directors.

Number of Respondents: 125.

Estimated Time Per Response: 3 hours.

Frequency of Response: Annual.

Total Annual Burden to Respondents: 375 hours.

Bureau of Indian Affairs Higher Education Grant Program Application

Title: Bureau of Indian Affairs Higher Education Grant Program Application.

OMB Approval Number: 1076-0101.

Type of Review: Renewal.

Brief Description of Collection: Respondents receiving a benefit must annually complete the form to demonstrate unmet financial need for consideration for a grant.

Respondents: Tribal members, students.

Number of Respondents: 14,000.

Estimated Time Per Response: 1 hour.

Frequency of Response: Annual.

Total Annual Burden to Respondents: 14,000 hours.

Dated: November 15, 2004.
David W. Anderson,
Assistant Secretary—Indian Affairs.

[FR Doc. 04-25949 Filed 11-22-04; 8:45 am]

BILLING CODE 4310-6W-P